DEPARTMENT OF THE INTERIOR

Bureau of Land Management

[CA-350-1220-EA]

Temporary Restriction of Use Order

AGENCY: Bureau of Land Management, Interior.

ACTION: Temporary restriction of motor vehicle use, Fort Sage Off Highway Vehicle Area.

SUMMARY: Notice is hereby given that effective 12:00 am April 6 until 6:00 pm April 7, 2002, use of motor vehicles is restricted at the Fort Sage Off Highway Vehicle Area to entrants and officials participating in motorcycle races under permit with the Bureau of Land Management. All roads and trails at the Fort Sage OHV area are closed to all other motor vehicle use on April 6 & 7, 2002, except for County Road 327 (Fort Sage Road), the Fort Sage Trailhead access road, the Widowmaker Trailhead Access road, and the road to the “Land of David” site which remain open without restriction.

SUPPLEMENTARY INFORMATION: The purpose of this restriction is to protect persons and their property, by preventing the potential for collision between race participants and casual road and trail riders. The restriction will also prevent adverse impacts to soil, vegetation, wildlife habitat, and recreation resources by preventing the potential for cross country travel by or congregating of spectators adjacent to or between trails. Search and rescue, medical emergency, law enforcement, and other emergency personal are exempted from these restrictions. BLM personnel are exempted from these restrictions for official administrative purposes. Owners of private lands within or adjacent to the Fort Sage OHV Area are exempted for access to owner's private land. Permitted OHV use remains limited to designated roads and trails as established under the existing OHV designation for the area. The authority for this closure is 43 CFR 8364.1

FOR MORE INFORMATION CONTACT: James Sippel, Outdoor Recreation Planner, BLM Eagle Lake Field Office (530) 257-0456.

Linda D. Hansen,
Field Manager.

[FR Doc. 01-31754 Filed 12-26-01; 8:45 am]

BILLING CODE 4310-40-M